DEPARTMENT OF THE INTERIOR

Bureau of Land Management

[LLORW00000.L51010000.ER0000.LVRWH09H0570.16XL5017AP.WAOR65753.HAG 17-0051]

Notice of Availability of the Record of Decision for the Proposed Vantage to Pomona Heights 230 kV Transmission Line Project in Grant, Kittitas, and Yakima Counties, Washington

AGENCY: Bureau of Land Management, Interior.

ACTION: Notice.

SUMMARY: The Bureau of Land Management (BLM) announces the availability of the Record of Decision (ROD) authorizing the issuance of a right-of-way grant (ROW) to Pacific Power to construct, operate, and maintain an electric transmission line on land administered by the BLM for the Vantage to Pomona Heights 230 kilovolt (kV) Transmission Line Project (Project). The Coeur d'Alene and Spokane District Manager signed the ROD on January 13, 2017, which constitutes the final decision by the BLM.

ADDRESSES: The BLM has sent copies of the ROD to cooperating agencies (identified below), public libraries in the Project area, and interested parties who previously requested a copy. Copies of the ROD are available upon request and for public inspection at the addresses listed in the SUPPLEMENTARY INFORMATION section. The ROD and supporting documents are also available electronically on the National ePlanning National Environmental Policy Act (NEPA) Register at: http://1.usa.gov/1S4ssrO.

FOR FURTHER INFORMATION CONTACT: Robin Estes, BLM Project Manager, at (541) 416-6728, by email at blm_or_vantage_pomona@blm.gov, or at the following address: BLM Spokane District Office, 1103 North Fancher Road, Spokane Valley, WA 99212-1275. Persons who use a telecommunications device for the deaf (TDD) may call the Federal Relay Service at 1-800-877-8339 to contact the above individual during normal business hours. The service is available 24 hours a day, 7 days a week, to leave a message or question with the above individual. You will receive a reply during normal business hours.

SUPPLEMENTARY INFORMATION: Pacific Power filed Federal applications for ROWs with the BLM, the U.S. Department of the Army Joint Base Lewis-McChord Yakima Training Center (JBLM YTC), and the U.S. Bureau of Reclamation (Reclamation) for the construction, operation, and maintenance of a 230 kV transmission line. The transmission line would run from Pacific Power's Pomona Heights Substation located east of Selah, Washington, in Yakima County to the Bonneville Power Administration (BPA) Vantage Substation located just east of the Wanapum Dam in Grant County, Washington. Pacific Power's stated interest in the new transmission line is to reduce the risk of service interruptions and ensure continued reliable, efficient, and coordinated service to the Yakima Valley.

The NEPA analysis for the Project fully describes Project alternatives; identifies direct, indirect, and cumulative impacts; and identifies mitigation measures that could avoid, minimize, or offset potential impacts. In accordance with 40 CFR 1501.5, the BLM was the Lead Agency for conducting the NEPA analysis. The cooperating agencies (40 CFR parts 1508.5 and 1501.6) in the NEPA process were the JBLM YTC; Reclamation; BPA; Federal Highway Administration; U.S. Fish and Wildlife Service; Washington Department of Archaeology and Historic Preservation; Washington Department of Fish and Wildlife; Washington Department of Natural Resources; Washington State Department of Transportation; and Grant, Kittitas, and Yakima Counties. To address any unavoidable impacts of the Project to Greater Sage-grouse, a project-specific Framework for Development of a Greater Sage-Grouse Compensatory Mitigation Plan (Mitigation Framework) was developed. The Mitigation Framework provides the guidance to facilitate Pacific Power's development of a Greater Sage-grouse Compensatory Mitigation Plan. The Mitigation Framework is included as an appendix in the Final Environmental Impact Statement (EIS) and in the ROD.

Pursuant to NEPA implementing regulation 40 CFR 1501.7, the Notice of Intent (NOI) to prepare an EIS for the proposed Project was published in the Federal Register on January 5, 2010 (75 FR 429). The publication of the NOI initiated the public scoping comment period that concluded on March 8, 2010.

On January 4, 2013, the BLM published the Notice of Availability (NOA) for the Draft EIS in the Federal Register (78 FR 756), starting the 90-day public comment period. As a result of the comments received at public meetings and submitted in writing during the Draft EIS comment period, a new alternative route, the New Northern Route (NNR) Alternative, was identified. The NNR Alternative is 40.5 miles in length. The BLM determined that a Supplemental Draft EIS was required in order to assess the effects of the NNR Alternative. On January 2, 2015, the BLM published the NOA for the Supplemental Draft EIS in the Federal Register (80 FR 50).

The BLM was the Lead Federal Agency for the NEPA analysis process and preparation of the EIS. On October 21, 2016, the BLM published the NOA for the Final EIS in the Federal Register (81 FR 72821). Printed and electronic copies of the Draft EIS, Supplemental Draft EIS, and Final EIS are available at the Spokane District Office and, electronically, on the National ePlanning NEPA Register at: http://1.usa.gov/1S4ssrO.

The BLM purpose and need for the action is to respond to a ROW application submitted under Section 501 of the Federal Land Policy and Management Act (43 U.S.C. 1761(a)) to use public lands for an electric transmission system and related facilities. The BLM adopted the Agency Preferred Alternative, the NNR Alternative—Overhead Design Option, from the Final EIS. The ROD approves issuance of a ROW to Pacific Power over approximately 4 miles of land administered by the BLM crossed by the NNR Alternative—Overhead Design Option in Yakima and Kittitas Counties. The BLM Coeur d'Alene and Spokane District Manager signed the ROD, which constitutes the final decision of the BLM and makes the decision to issue a ROW effective immediately. Copies of the ROD are available for public inspection during normal business hours at the following BLM offices: Bureau of Land Management, Wenatchee Field Office, 915 Walla Walla Ave., Wenatchee, Washington; and Bureau of Land Management, Spokane District Office, 1103 N. Fancher Rd., Spokane Valley, Washington.

Appeal Information: This decision may be appealed to the Interior Board of Land Appeals in accordance with the regulations contained in 43 CFR part 4. Appeal and stay procedures are outlined in Form 1842-1.

Authority: 40 CFR 1506.6, 40 CFR 1506.10.

Linda Clark,
Spokane District Manager and Authorizing Officer.

[FR Doc. 2017-01000 Filed 1-17-17; 8:45 am]

BILLING CODE 4310-33-P